DEPARTMENT OF AGRICULTURE

Forest Service

Final Record of Decision for the Ashley National Forest Land Management Plan

AGENCY: Forest Service, Agriculture (USDA).

ACTION: Notice of approval of the revised land management plan for the Ashley National Forest.

SUMMARY: Susan Eickhoff, the Forest Supervisor for the Ashley National Forest, Intermountain Region, signed the final record of decision (ROD) for the Ashley National Forest revised Land Management Plan (LMP). The final ROD documents the rationale for approving the revised LMP and is consistent with the Reviewing Officer's responses to objections and instructions.

DATES: The revised LMP for the Ashley National Forest will become effective 30 days after the publication of this notice of approval in the Federal Register (36 CFR 219.17(a)(1)).

ADDRESSES: To view the final ROD, final environmental impact statement (FEIS), revised LMP, and other related documents, please visit the Ashley National Forest project page at: https://www.fs.usda.gov/project/?project=49606, or visit the Forest's planning website at: https://www.fs.usda.gov/main/ashley/landmanagement/planning.

A legal notice of approval is also being published in the newspaper of record, The Vernal Express (Vernal, Utah). A copy of this legal notice will be posted on the Ashley National Forest's website described above.

FOR FURTHER INFORMATION CONTACT: Lars Christensen, Collaboration Specialist, Ashley National Forest; email lars.christensen@usda.gov or call 435-781-5126.

Individuals who use telecommunication devices for the deaf or hard of hearing (TDD) may call the Federal Relay Service at 1-800-877-8339, 24 hours a day, every day of the year, including holidays. Written requests for information may be sent to Ashley National Forest, Attn: Ashley National Forest Plan Revision, 355 North Vernal Ave., Vernal, UT 84078.

SUPPLEMENTARY INFORMATION: The Ashley National Forest covers more than 1.4 million acres across seven counties in northeastern Utah and southwestern Wyoming. The LMP was developed pursuant to the 2012 Forest Service Planning Rule (36 CFR 219) and will replace the 1986 LMP. The LMP describes desired conditions, objectives, standards, guidelines, and land suitability for project and activity decision-making and will guide all resource management activities on the Forest. The Ashley National Forest plays an important role supporting and partnering with communities in northeastern Utah and southwestern Wyoming by providing economic benefits including fuelwood gathering, livestock grazing, and abundant recreational opportunities. The development of the LMP was shaped by the best available scientific information, current laws, and public input.

The Ashley National Forest initiated plan revision in 2016 and engaged the public frequently throughout the process. This engagement effort has included conventional public meetings, collaborative work sessions and technical meetings, information sharing via social media, and working with cooperating agencies. The Forest invited State, local, and Tribal governments, and other Federal agencies from around the region to participate in the process to revise the LMP. The Forest engaged in government-to-government consultation with two Tribes during LMP revision, ensuring tribal-related plan direction accurately reflects the Ashley National Forest's trust responsibilities and government-to-government relationship with tribes. An Ashley National Forest-Ute Indian Tribal Task Force met regularly throughout the plan revision effort. During the 90-day comment period November 2021 through February 2022 for the draft LMP and draft EIS, the Ashley National Forest received 191 comment letters which helped refine the preferred alternative and augment plan content based on response to comments.

A draft ROD, LMP, and FEIS were released on April 19, 2023, initiating a 60-day objection filing period that closed June 20, 2023. The Ashley received 15 eligible objections, two of which were for species of conservation concern. Through a comprehensive review of each objection, a variety of issues were identified. Following the objection review, the Reviewing Officer held an objection resolution meeting with objectors and interested persons. Based on these meetings, the Reviewing Officer for the LMP issued a written response on November 14, 2023, and the Reviewing Officer for species of conservation concern issued a written response on November 17, 2023. The instructions from the Reviewing Officer were addressed in the ROD, LMP, and FEIS.

Responsible Officials

The Responsible Official for approving the revised LMP is Susan Eickhoff, Forest Supervisor, Ashley National Forest. The Responsible Official approving the list of species of conservation concern is Mary Farnsworth, Regional Forester, Intermountain Region.

Dated: January 19, 2024.
Troy Heithecker,
Associate Deputy Chief, National Forest System.

[FR Doc. 2024-01573 Filed 1-25-24; 8:45 am]

BILLING CODE 3411-15-P